FEDERAL COMMUNICATIONS COMMISSION

47 CFR Part 11

[PS Docket No. 15-94; FCC 18-39]

Emergency Alert System

AGENCY: Federal Communications Commission.

ACTION: Final rule.

SUMMARY: In this document, the Commission amends its rules governing the Emergency Alert System (EAS) by establishing the Alert Reporting System (ARS), a comprehensive online filing system for EAS that combines the existing EAS Test Reporting System (ETRS) with a new, streamlined electronic system for the filing of State EAS Plans. By replacing paper-based State EAS Plans with an online filing system, the ARS will minimize the burdens on State Emergency Communications Committees (SECCs), and allow the FCC, the Federal Emergency Management Agency (FEMA), and other authorized entities to better access and use up-to-date information about the EAS, thus increasing its value as a tool to protect life and property for all Americans.

DATES: Effective September 4, 2018. Mandatory compliance dates: FCC will publish a document in the Federal Register announcing dates as outlined in paragraphs 54-55 and 72-73 in SUPPLEMENTARY INFORMATION.

FOR FURTHER INFORMATION CONTACT: Austin Randazzo, Attorney Advisor, Policy and Licensing Division, Public Safety and Homeland Security Bureau, at 202-418-1462, or by email at Austin.Randazzo@fcc.gov. For additional information concerning the information collection requirements contained in this document, send an email to PRA@fcc.gov or contact Nicole Ongele, Office of Managing Director, Performance Evaluation and Records Management, 202-418-2991, or by email to PRA@fcc.gov.

SUPPLEMENTARY INFORMATION: This is a summary of the Commission's Report and Order (Report and Order) in PS Docket No. 15-94, FCC 18-39, released on April 10, 2018. The full text of this document is available for inspection and copying during normal business hours in the FCC Reference Center (Room CY-1257), 445 12th Street SW, Washington, DC 20554, or online at: https://www.fcc.gov/document/fcc-make-emergency-alert-system-more-effective.

Synopsis

1. This Report and Order revises the Commission's EAS rules to establish the Alert Reporting System (ARS), a comprehensive online filing system that will combine the existing EAS Test Reporting System (ETRS) with a new, streamlined electronic system for the filing of State EAS Plans. Further, to ensure that the rules for State EAS Plans are clear and unambiguous, the Report and Order combines all State EAS Plan related rules into a single section (11.21) of part 11.

I. Background

2. The EAS is a national public warning system used by EAS Participants to deliver emergency alerts to the public. The primary purpose of the EAS is to allow the President of the United States (President) to provide information to the general public during periods of national emergency. State and local authorities also use the common distribution architecture of the EAS to distribute voluntary weather-related and other emergency alerts to the public.

3. There are two distribution methods for EAS alerts. The traditional method distributes alerts through a hierarchical, broadcast-based distribution system, in which an alert originator formats an alert using the EAS Protocol and initiates its transmission at a designated entry point. This “daisy chain” process relays the alert from one designated station to another until it is fully distributed. EAS alerts also are distributed over the internet through the Integrated Public Alert and Warning System (IPAWS), a national alerting system administered by FEMA. Under the IPAWS, EAS Participants monitor a FEMA-administered website for EAS messages that are written in the Common Alerting Protocol (CAP).

4. While IPAWS relies upon the centralized distribution of alerts using an alert aggregator and an internet-based interface, the EAS's “daisy chain” leverages the broadcast-based EAS distribution architectures in each of the states. The Commission's rules require each state to file a State EAS Plan with the Commission documenting its EAS distribution architecture. State Emergency Communications Committees (SECCs), along with associated Local Emergency Communications Committees (LECCs), draft and file these plans on behalf of the states. The SECCs and LECCs are volunteer organizations composed of state broadcast associations, EAS Participants, emergency management personnel, and other stakeholders. SECCs grew out of a 1963 Executive Order that directed the Commission to cooperate with other governmental entities to develop emergency communications plans related to the Emergency Broadcast System (EBS). At that time, the Commission provided SECCs with templates for State EAS Plans that described the kinds of information that their plans should provide.

5. Nationwide EAS Tests. On September 28, 2016 and September 27, 2017, FEMA, in collaboration with the Commission, conducted the second and third nationwide tests of the EAS, respectively. The purpose of the tests was to assess the reliability and effectiveness of the EAS, with a particular emphasis on testing IPAWS. On April 21, 2017, the Public Safety and Homeland Security Bureau (PSHSB) released a public version of the second test's results, which indicated that although the test had satisfied its primary purposes, there remained “strong evidence that many test participants do not understand their roles in the EAS structure and are unfamiliar with the State EAS Plans that inform them of those roles.”

6. EAS Test Reporting System (ETRS). In connection with the test, the Commission launched the ETRS, an electronic filing system and related database that upgraded the system the Commission used for the first nationwide EAS test. The ETRS requires EAS Participants to submit detailed information regarding their receipt and propagation, if applicable, of the alert code, including an explanation of any complications in receiving and propagating the code. The ETRS enables the Commission to maintain a centralized database of all EAS monitoring assignments and alert distribution pathways.

II. Discussion

7. Online State EAS Plan Filing in the Alert Reporting System. State EAS Plans must describe state and local EAS operations and “contain guidelines which must be followed by EAS Participants' personnel, emergency officials, and [NWS] personnel to activate the EAS.” State EAS Plans must be reviewed and approved by the Chief, PSHSB, prior to their implementation “to ensure that they are consistent with national plans, FCC regulations, and EAS operation.”

8. Following the first nationwide EAS test in 2011, PSHSB recommended converting the State EAS Plan filing process into an online system in light of inconsistencies identified in a post-test analysis of the structure of State EAS Plans. Subsequently, the Communications Security, Reliability and Interoperability Council (CSRIC) IV recommended that State EAS Plans also be filed online and recommended that the Commission revise its rules to adopt an online platform, State EAS Plan template design, and identification mechanisms for facilities and geographic areas contained within State EAS Plans. In the document, the Commission noted the CSRIC's recommendations and proposed converting the paper-based filing process for State EAS Plans into a secure online process that would interface with the ETRS.

9. Online Filing. The Commission revises its Part 11 EAS rules to require SECCs to file State EAS Plans electronically via an online filing system. This will provide a baseline level of uniformity across State EAS Plans, in terms of both format and terminology, while affording sufficient flexibility to accommodate filers' unique needs. This online State EAS filing platform, combined with the existing ETRS, will form the Alert Reporting System. The Commission believes that the ARS will ensure more efficient and effective delivery of Presidential as well as state, local and weather-related alerts as it will provide the Commission, FEMA, and other authorized entities with the means to more easily review and identify gaps in the EAS architectures, detect problems, and take measures to address these shortcomings.

10. The Commission agrees with the many commenters that note the benefits of the online filing system. For example, broadcast engineer Sean Donelan (Donelan) states that a well-implemented electronic filing system for EAS data will reduce the burden on state and local EAS committee volunteers. Use of an online filing system will also benefit EAS Participants, SECCs, and other EAS stakeholders by facilitating the Commission's swift and efficient review of State EAS Plans. As the Washington State SECC notes, a standardized filing system “is long overdue” and will aid the Commission's effort to review State EAS Plans. The Commission believes, as does Wisconsin SECC Broadcast Chair Gary Timm, commenting in his individual capacity (Timm), that the time required for SECCs to fill out a monitoring matrix would be minimal, and that other FCC databases could help keep the information updated. The online filing system will be an efficient tool for reviewing alerting architecture, as it will provide an end-to-end picture of the EAS distribution architecture for each state. Further, cross-referencing data from electronically filed State EAS Plans with data collected from the ETRS will make it easier to identify problems such as single points of failure. Finally, moving to an online system will reduce burdens on SECCs by pre-populating data fields in State EAS Plans with information from other FCC databases, enabling SECCs to readily update and revise their plans.

11. The Commission believes that the efficient and effective administration of the EAS, i.e., its ability to deliver a Presidential Alert nationwide, requires some level of standardization of State EAS Plans. State EAS Plans currently lack consistent structure and content. An online filing system using uniform and consistent terminology will facilitate the input, analysis, and related uses of the Plan information. During the first nationwide EAS test, a lack of uniformity among State EAS Plans “made it very difficult for the Commission and FEMA to create a national propagation map.” Similarly, the Commission agrees with CSRIC IV that the lack of uniform format in State EAS Plans “makes it difficult for the FCC to determine if a proper distribution network exists for . . . distribution [of the Presidential Alert] in each state.” Further, an online State EAS Plan filing system with consistent terminology and format will allow SECCs to “report changes to state plans and EAS EAN Event Code distribution in the least demanding and most efficient manner possible that still provides the Commission with current and accurate information.”

12. Template. The Commission requires State EAS Plan data to be entered into a pre-configured online template. As the Commission discusses below, it is designed to be minimally burdensome, secure, and to offer clear guidance to SECCs. The template will standardize monitoring and other common elements of EAS State Plans, while offering sufficient flexibility to avoid SECCs' concerns that a “one size fits all” template for State EAS Plans would be unworkable. It will address all elements of State EAS Plans, including a monitoring assignment matrix similar to the one used by the Washington State SECC and supported by commenters, so that SECCs may input monitoring data into the ARS in a structured and consistent manner. Where feasible, the Commission will ensure that this matrix and other parts of the template will pre-populate elements of State EAS Plans by cross-referencing data already collected by the Commission, as recommended by CSRIC IV. The Commission directs PSHSB to develop and implement the template in Appendix D of the Report and Order to include these functionalities and to minimize unnecessary and redundant filing burdens on SECCs.

13. The Commission traditionally has provided SECCs with templates describing the kinds of information to be included in State EAS Plans, and the template the Commission adopts today is consistent with that practice. To be both effective and minimally burdensome, the State EAS Plan template must address all state plan elements. The Commission thus disagrees with suggestions that the online database and template apply only to the monitoring assignment matrix, or to what some commenters characterize as the “federal” aspects of State EAS Plans. State EAS Plans are not limited to monitoring assignment data, but rather include other elements which, taken together, form the EAS activation guidelines that EAS stakeholders follow. Similarly, the use and testing of the EAS at the state and local level provide insight into its functionality and effectiveness at the federal level.

14. Finally, the Commission disagrees with commenters who suggest that a State EAS Plan template is unworkable because there is no “one size fits all” framework for State EAS Plans. The template will afford SECCs flexibility to provide information they deem relevant to design and maintain their states' EAS distribution architectures and relay networks. It will be configured in a manner that accommodates variations in state alerting architectures, including areas where alerts are transmitted across state borders.

15. Access. The Commission agrees with commenters that State EAS Plan information concerning the placement of broadcast towers and other vital alert distribution architecture infrastructure is sensitive, particularly when aggregated with similar information from other states. Accordingly, the Commission adopts safeguards to ensure only authorized entities access this data. The Commission requires SECCs to provide an SECC ID, an individual user ID, and a password to input State EAS Plan data into the ARS. Commenters generally support limiting access to State EAS Plans filed in this manner. NSBA observes that the security risks of aggregating State EAS Plans online justify the use of password or log-in protection. Further, the Alaska Broadcasters Association, Alaska State Emergency Communications Committee, and the State of Alaska Department of Military and Veterans Affairs, the Division of Homeland Security and Emergency Management (Alaska Commenters) assert that online data that includes specific station and equipment information (e.g., make, model, manufacturer, and firmware versions of the encoder, decoder, and translator equipment) should be considered sensitive and protected from disclosure as necessary. To address these concerns, the Commission adopts CSRIC IV's recommendation to follow the Disaster Information Reporting System (DIRS) two-layer access model. This model will require a user to input both an SECC ID and an individual user ID before accessing the database. The Commission agrees with the Alaska Commenters that, similar to DIRS and ETRS, the Commission should handle user and account management for this system, and the Commission directs PSHSB to determine the details of designing and setting up ARS account management.

16. Several commenters provide useful suggestions about access to State EAS Plan data that the Commission adopts as elements of ARS access. The Commission agrees with Nevada SECC Chairwoman Adrienne Abbott, commenting in her individual capacity (Abbott), that only individuals with significant roles in SECCs should have access to this data, and, further, that such access should be limited to data about an SECC's individual state. The Commission disagrees with Monroe Electronics, however, that EAS equipment manufacturers and planning consultants should have access to State EAS Plan data to confirm proper configuration of system hardware and software. As noted above, the ARS will contain sensitive data and, for this reason, the Commission believes it serves the public interest to limit access to the ARS. EAS equipment manufacturers and other third-party vendors may request a particular client's data from that client.

17. Confidentiality. Finally, the Commission affords confidentiality protection to State EAS Plan data. Most commenters agree that some of the information in State EAS Plans, such as the call signs and locations of key EAS sources, is sensitive or could become sensitive if aggregated in a single location. The Commission notes that details regarding equipment configurations, EAS equipment vendor market share, and relationships between EAS Participants themselves could be commercially sensitive. Aggregated information in State EAS Plans, such as configurations and vulnerabilities as demonstrated by tests, could also implicate national security. Further, nothing in the record indicates a need for public access to State EAS Plan information. Accordingly, the Commission concludes that State EAS Plan data and any aggregation of such data will have the same level of confidentiality as data filed in the ETRS, i.e., the Commission will share individual and aggregated data on a confidential basis with other federal agencies and state governmental emergency management agencies that have confidentiality protection at least equal to that provided by the Freedom of Information Act (FOIA). The Commission notes that some SECCs may be subject to state-based requirements that require disclosure of some or all of the same data that it will file in the ARS. Although the rules the Commission adopts today will prevent unauthorized State EAS Plan data disclosure filed by an SECC via ARS, the rules will not prevent or preclude SECCs from independently filing with its state the same data that it files with the ARS.

18. EAS Designations. The Commission's part 11 rules provide designations for “key EAS sources.” In the document, the Commission observed that SECCs have inconsistently used these designations. This inconsistency inhibits the Commission's ability to determine the quality of the state and national level broadcast-based EAS, and may inhibit delivery of a Presidential Alert. Accordingly, the Commission proposed refining its EAS designations in a way that would accommodate variations in but also promote uniformity among State EAS Plans. The Commission also sought comment on whether additional designations may be necessary.

19. The Commission amends section 11.18 to define all its current EAS designations. Although SECCs' use of EAS designations may vary, commenters support retaining the current designations to support the SECCs' abilities to assign roles and responsibilities. Accordingly, the Commission keeps these designations as tools to help SECCs describe their states' EAS alert distribution hierarchies in their State EAS Plans “using common language.” These universal designations also will allow the Commission to create an EAS Mapbook as contemplated by the EAS rules. The Mapbook will provide an accurate and dynamic nationwide propagation map for the Presidential Alert, as well as state, county, and local propagation maps. The Commission agrees with Abbott that it would be difficult to implement standardized terminology if its definitions did not provide sufficient flexibility to accommodate states' varying approaches to establishing EAS monitoring assignments. However, the EAS designation definitions the Commission adopts today are designed to provide a level of uniformity that will allow SECCs to establish EAS monitoring assignments that accommodate their unique situations. Accordingly, the Commission will define the EAS designations as follows.

20. Primary Entry Point (PEP): A private or commercial radio broadcast station that cooperatively participates with FEMA to provide EAS alerts to the public. PEPs are the primary source of initial broadcast for a Presidential Alert. A PEP is equipped with back-up communications equipment and power generators designed to enable it to continue broadcasting information to the public during and after disasters of national significance. The PEP System is a nationwide network of such broadcast stations used to distribute EAS alerts formatted in the EAS Protocol. FEMA is responsible for designating broadcast stations as PEPs.

21. National Primary (NP): An entity tasked with the primary responsibility of receiving the Presidential Alert from a PEP and delivering it to an individual state or portion of a state. In states without a PEP, the NP is responsible for receiving the Presidential Alert from an out-of-state PEP and transmitting it to the public and other EAS Participants in the state. Multiple entities may be charged with primary responsibility for delivering the Presidential Alert.

22. PEP and NP are the only designations that are solely relevant to the transmission of the Presidential Alert.

23. State Primary (SP): An entity tasked with initiating the delivery of EAS alerts other than the Presidential Alert.

24. SPs may, for example, be designated by SECCs to initially transmit AMBER alerts or alerts related to incidents of severe weather to the public and to other EAS Participants that voluntarily monitor for and retransmit such alerts.

25. Local Primary (LP): An entity that serves as a monitoring assignment for other EAS Participants within the state. LP sources may be assigned numbers (e.g., LP-1, LP-2) and are relied on as monitoring sources by other EAS Participants in the local area. An LP may monitor any other station, including another LP, so long as doing so avoids creating a single point of failure in the alert distribution hierarchy.

26. Participating National (PN): An EAS Participant that transmits national, state, or local area EAS messages, and is not otherwise designated within the State EAS Plan.

27. State Relay (SR): An entity not otherwise designated that is charged with retransmitting EAS alerts for the purpose of being monitored by an LP or PN.

28. Commenters assert that SR properly describes the relay function and is used extensively in some State EAS Plans. While the Commission anticipates that the EAS alert distribution hierarchy described above will be sufficient to define the roles and responsibilities for all EAS Participants in many states, in some states, SRs may be necessary to ensure that EAS alerts are available to everyone in the state. In these instances, especially when SRs are used as alternative monitoring assignments, the Commission recognizes that it may be appropriate to use special designations for entities responsible for relaying alerts from a PEP, NP, or SP to an LP or PN.

29. State Relay Network (SRN): A network composed of State Relay (SR) sources, leased common carrier communications facilities or any other available communication facilities. The network distributes State EAS messages originated by the Governor or designated official. In addition to EAS monitoring, satellites, microwave, FM subcarrier or any other communications technology may be used to distribute State emergency messages.

30. The Commission understands that in some states, such as Washington, the SRN serves as an alternative, redundant system for ensuring the successful delivery of EAS alerts. The Commission also understands that some State EAS Plans, such as Nevada's, do not rely on SRNs because “[s]mall and rural broadcasters cannot afford the monthly cost of these services.” To the extent that SRNs enhance system reliability and resiliency, the Commission finds them to be desirable, and encourage SECCs to specify in their state plans the extent to which they rely on SRNs as a secondary alert distribution mechanism. The Commission does not require any state to utilize a SRN, because it recognizes the maintenance burdens that SRNs may pose for small entities.

31. The Commission agrees with commenters that additional EAS designations are unnecessary and therefore declinesto adopt the additional designations or sub-designations proposed in the document based on the entities responsible for particular types of alerts (e.g., State AMBER Alert Primary) or based on the type of transmission facility used (e.g., State Satellite Primary). The Commission will continue to monitor whether establishing additional roles and responsibilities within State EAS Plans may be necessary in the future to improve emergency preparedness.

32. State EAS Plan Contents. EAS Participants must conduct EAS operations as specified in State EAS Plans to ensure effective delivery of the Presidential Alert, yet EAS Participants lack consistent knowledge of their roles under State EAS Plans, and State EAS Plans lack the uniformity essential for dependable dissemination of a Presidential Alert. The EAS Deployment Report and Order communicated expectations for the structure and administration of State EAS Plans and SECCs, but current State EAS Plan rules do not consistently address SECCs' administration and governance practices. Some states' SECCs and State EAS Plans have not met the Commission's expectations for several reasons, including the failure of some states to file or update State EAS Plans. Moreover, since the adoption of State EAS Plan rules in 1994, the alerting landscape has changed dramatically. Local alerts now originate from a wider array of sources and continue to increase in frequency. Many EAS Participants use alternative distribution systems such as satellite-based systems to supplement or replace the traditional “daisy chain” alert distribution architecture.

33. In the EAS Nationwide Test Report, PSHSB observed a lack of clarity in State EAS Plans that precluded end-to-end analysis and review of the EAS system. First, it noted that the Commission's rules do not require EAS Participants to provide monitoring assignment data below the LP level. Second, it observed that many State EAS Plans did not identify the alternative monitoring sources that EAS Participants relied upon to receive the EAN during the first nationwide EAS test. Additionally, PSHSB observed that many EAS Participants used the satellite-based National Public Radio (NPR) News Advisory Channel (Squawk Channel) to receive the EAN, as opposed to their “daisy chain” monitoring assignments. Based on these findings, PSHSB recommended review of the State EAS Plan rules. CSRIC IV recommended that “SECCs must be free to design and maintain their respective state's own robust and redundant EAS relay networks in the best and most practical ways possible.”

34. To address these concerns, in the document, the Commission proposed that each State EAS Plan include: (1) A list of header codes and messages to be transmitted by key EAS sources; (2) a description of all of the state's procedures for transmitting emergency information to the public, including by EAS, WEA, social media, highway signs, and other alerting procedures; (3) the extent to which the state's dissemination strategy for state and local alerts differs from its strategy for disseminating the Presidential Alert; (4) a list of all entities authorized to activate EAS for state and local emergencies; (5) monitoring assignments for key alerting sources; (6) EAS testing procedures; (7) the extent to which alert originators coordinate alerts with “many-to-one” feedback mechanisms, such as 911; (8) procedures for authenticating state EAS messages formatted in CAP and signed with digital signatures; and (9) a description of the SECC governance structure used by the state, including the duties, membership selection process, and administrative structure of the SECC.

35. The Commission amends the Commission's rules to specify and standardize the organizational and operational aspects of State EAS Plans to provide State EAS Plans with the level of order and consistency necessary for efficient and reliable distribution of emergency information to the public.

36. Uniform Designations. The Commission requires that SECCs input State EAS Plan monitoring assignment data into the ARS using the uniform designations for key EAS sources. As explained in the Nationwide EAS Test Report, and as supported by the record, the use of consistent terminology in State EAS Plans will assist the Commission in reviewing plans; understanding EAS architecture on a nationwide, statewide, and local basis; and determining how the states' distribution systems can be aggregated into a single, comprehensive distribution mechanism for the Presidential Alert.

37. List of Entities Authorized to Activate EAS. The Commission allows, but does not require, that State EAS Plans include a list of all entities authorized to activate the EAS for state and local emergency messages (e.g., PSAPs) whose transmissions might be interrupted by a Presidential Alert. Commission rules already require State EAS Plans to have a list of authorized entities participating in the state or local EAS. Thus, State EAS Plans already may include, as a component of that list, all entities authorized to activate the EAS for state and local emergency messages. The Commission will prepopulate the online State EAS Plan template with FEMA-approved alert originators, but SECCs may add any state-based alert originators not listed by FEMA as authorized to initiate an IPAWS alert.

38. A Description of SECC Governance Structure. To ensure the efficient and effective delivery of a Presidential Alert, the Commission requires SECCs to specify in the State EAS Plans their governance structure, including the duties, membership selection process, and administrative structure of the SECC. Most commenters support the Commission providing additional guidance to SECCs, but few commenters provide suggestions on SECC governance, and very few address whether basic data regarding SECC governance should be included in State EAS Plans. Because State EAS Plans detail the distribution architecture for delivery of a Presidential Alert, SECCs should have a governance and oversight structure to support this function. The Commission requires this baseline information about SECCs to verify that State EAS Plans provide the framework for effective transmission of the Presidential Alert. The Commission agrees with commenters that the Commission should continue to provide the guidance it historically has supplied to SECCs. Obtaining initial information on an SECC's structure and functions is an essential part of that process. Accordingly, SECCs must, at a minimum, specify their contact points, and whether they represent all alert originators, and their decision-making structures. This baseline information will help us contact relevant staff, identify SECCs that are less active or have fewer resources, and formulate strategies for addressing all SECCs' needs. The Commission does not require, however, that SECCs adopt a particular governance structure. For these reasons, the Commission disagrees with commenters that oppose these requirements as unnecessary or beyond the scope of many SECCs.

39. LECCs and Local Area EAS Plans. The Commission maintains the existing language of section 11.21(b), which provides for the development of a Local Area Plan containing procedures for local emergencies. CSRIC IV observed that the EAS depends on local distribution and recommended developing policies to “encourage local communications distribution systems to participate in the emergency warning process.” Timm comments that LECCs have “local expertise to best manage EAS alerting in a given area, and Local Area EAS Plans are still viable for addressing EAS procedures at a local level of detail beyond that possible to devote room to in the full State EAS Plan.” Abbott asserts that LECCs and local plans are a necessary component of EAS Plans in large states where no one single broadcast station covers an entire state and no end-to-end “daisy chains” connect operational areas in the state. The Commission concludes that Local Area Plans are still useful in some states and that SECCs should have the option of including them in their State EAS Plans.

40. The EAS's primary purpose is transmitting a message from the President to the public during a national emergency. To do so, EAS information must be properly coordinated and understood by relevant stakeholders. Accordingly, the Commission requires State EAS Plans to include transmission procedures for an EAS alert and accurate, up-to-date monitoring assignments for each key EAS source to reflect how they receive alerts.

41. Emergency Alerting Procedures. The Commission concludes that State EAS Plans should contain an accurate and comprehensive listing of procedures used for transmitting information to the public via the EAS. This listing should include the monitoring obligations already required under the rules to transmit the Presidential alert. Non-Presidential use of the “daisy chain” distribution structure facilitates equipment readiness and maintains user proficiency in the system. Accordingly, the Commission requires that SECCs disclose in their State EAS Plan the extent to which the state's dissemination strategy for state and local alerts differs (if at all) from its strategy for disseminating the Presidential Alert. Consistent with CSRIC IV's recommendations, this information will help the Commission and SECCs obtain a baseline of information upon which to create a plan for more effective use and development of the EAS in each state. The Commission provides flexibility to SECCs regarding how this information is provided in State EAS Plans, as well as the frequency with which it is updated.

42. Satellite-based Sources of EAS Messages. The Commission requires that State EAS Plans specify satellite-based communications resources that are used as alternate monitoring assignments and present a reliable source of EANs and other EAS messages. Many EAS Participants currently use satellite-based communications technologies as monitoring sources because of incomplete PEP coverage, broadcast monitoring source difficulties, or other reasons. Most commenters support requiring the inclusion of this information in State EAS Plans and note that satellite-based resources may be fast, secure, and reliable.

43. Some commenters recommend that the Commission remain technologically neutral in light of the availability of alternative dissemination technologies for EAS alerts. The Commission's satellite-based sources requirement does not mandate any particular technology, but rather requires that State EAS Plans reflect the monitoring sources used. Thus, its rules maintain technological neutrality while ensuring that State EAS Plans accurately identify each state's entire EAS distribution system. As Abbott suggests, states will determine independently whether they will use satellite-based resources. The Commission notes that many state plans include satellite monitoring information. Requiring its inclusion in all State EAS Plans benefits the industry by bringing consistency to the process. To the extent that some State EAS Plans will supply it for the first time, the Commission expects the incremental cost to be minimal.

44. Monitoring Assignments. The Commission requires State EAS Plans to include “[m]onitoring assignments to receive the Presidential Alert, and the primary and back-up paths for the dissemination of the Presidential Alert to all key EAS sources organized by operational areas within the state.” The Commission finds that State EAS Plans should continue to divide their respective states into geographically based operational areas, specifying primary and backup monitoring assignments in each operational area. CSRIC IV noted a lack of uniformity among State EAS Plan definitions of “operational areas” and recommended that, where possible, such service areas should be uniformly identified. Most commenters, however, oppose a standardized definition of “operational areas.” These commenters note that the definition of “operational areas” must be flexible to accommodate the different reasons for their existence, and that such areas are best defined by the local or state entities most familiar with them. To facilitate this flexibility, the Commission will include a drop-down menu in ARS that contains the most common ways SECCs have described their operational areas in previously-approved State EAS Plans as well as an opportunity for SECCs to describe operational areas that do not comport with the drop-down menu choices.

45. The Commission also removes the current restriction that State EAS Plans include monitoring assignments for Presidential Alerts formatted only in the EAS Protocol. Several commenters support removing this restriction. The Commission finds that doing so will permit states to provide additional information in their plans. Technologies are evolving, and a Presidential Alert may not necessarily be issued using the EAS Protocol; for example, a new generation of Presidential Alert may be introduced using the CAP standard only. The Commission believes that removing this restriction will ensure that state plans remain flexible and responsive to both changes in technology and changes FEMA may make in the future to the format of Presidential Alerts. The Commission disagrees with Timm, who asserts that the Commission should not remove the restriction yet because doing so could “lead to imperiling” the EAS Protocol distribution system and diminish the redundancy of having EAS Participants monitor multiple sources of the Presidential Alert. The Commission continues to require State EAS Plans to contain the EAS Header Code and other EAS Protocol distribution information required under the part 11 rules. The Commission also concludes that it also should allow State EAS Plans to include additional non-EAS Protocol (e.g., CAP) distribution information.

46. Organization of section 11.21. To address all State EAS Plan monitoring requirements in the same section of part 11, the Commission merges sections 11.52 (“EAS code and Attention Signal Monitoring requirements”) and 11.55 (“EAS operation during a State or Local Area emergency”) into section 11.21 by: (1) Amending section 11.21 to state that EAS Participant monitoring assignments and EAS operations must be implemented in a manner consistent with guidelines established in the applicable State EAS Plan submitted to the Commission, and (2) removing that language from sections 11.52 and 11.55. All three of these sections address State EAS Plan content. The Commission agrees with Abbott that these changes will help SECCs apply the State EAS Plan rules. The Commission also agrees, however, with commenters who assert that removing all state plan terminology from sections 11.52 and 11.55 could make the rules unclear; therefore, the Commission does not adopt that proposal.

47. The Commission finds that this change is supported by CSRIC IV's recommendation that the Commission amend section 11.21 to provide that “[s]tates that want to use the EAS shall submit a State EAS Plan.” The Commission also agrees with several commenters who suggest that it would be helpful to specify in section 11.21 that SECCs develop and maintain state plans, and the Commission adds this language to the rule. Finally, the Commission agrees with Timm that the language in section 11.21(c) should refer to the state monitoring assignment matrix rather than the state “data table” and revise section 11.21(c) accordingly.

48. Testing/Outreach Elements. The Commission allows State EAS Plans to include procedures for live code tests and Required Weekly Tests (RWTs). Commenters generally agree that State EAS Plans should include information on EAS testing. Some commenters assert that requiring this information would be impractical or overly burdensome, but other commenters note that this information would help organize test scheduling and prevent confusion. The Commission believes that including information on state testing programs can help ensure that the EAS functions effectively and efficiently. The Commission also notes that State EAS Plans already must include information on Required Monthly Tests (RMTs) and special tests. To the extent it is useful to include and memorialize all test procedures, including procedures for live code tests or RWTs, in a consolidated manner, SECCs may use State EAS Plans and ARS as a vehicle for doing so. The Commission notes that SECCs and EAS Participants will benefit from SECCs voluntarily providing this information in the ARS, as EAS Participants will be able to readily review plan information relevant to them.

49. Other Proposed Contents. The Commission declines to adopt the proposals in the document that State EAS Plans include a description of the procedures for transmitting emergency information to the public via WEA, social media, highway signs, and other alerting procedures, as well as a description of the extent to which alert originators coordinate alerts with “many-to-one” community feedback mechanisms, such as 911. Although several commenters support the inclusion of some of these capabilities in alerts, commenters generally oppose the incorporation of these elements into State EAS Plans. The Commission agrees with the majority of commenters that this information is unnecessary at this time to ensure the effective delivery of the EAN, and that its inclusion would be unduly burdensome. The Commission also shares commenters' concern that these requirements may cause confusion or conflict with community warning plans, and that they may require the provision of information outside of the SECCs' purview.

50. The National Advisory Committee and Additional Guidance for SECCs. CSRIC IV recommended that the Commission reestablish the National Advisory Committee (NAC). The NAC was the federal advisory committee responsible for assisting the Commission with administrating the EAS, promoting stakeholder and Commission interaction with SECCs, and providing information for the development and maintenance of State and Local EAS Plans. The document sought comment on CSRIC IV's recommendation to reinstate the NAC as well as whether there is a need for a consistent, uniform governance structure for SECCs nationwide to ensure effective functioning of the EAS. Noting that CSRIC IV discouraged a “one size fits all” approach to SECC governance, the Commission asked whether it could issue guidance or work with SECCs to clarify the roles and responsibilities of SECCs in a manner that would be useful in each state. The Commission also sought comment on whether information on SECC governance in State EAS Plans could help develop best practices or other guidance for SECCs.

51. Based on the record, the Commission believes it would serve the public interest to provide SECCs with further guidance on their roles and responsibilities. The record demonstrates support for reinstating the NAC, and commenters generally support the Commission adopting rules or providing guidance or best practices on SECC governance. The Commission notes, however, that under the IPAWS Modernization Act of 2015, FEMA recently established the IPAWS Subcommittee to its National Advisory Council, which will consider changes to improve the IPAWS and develop technologies that may be beneficial to the public alert and warning system. NSBA observes that “it would not be unreasonable” for the IPAWS Subcommittee to address issues raised in the document. Thus, rather than establishing a separate advisory committee, the Commission concludes that the IPAWS Subcommittee is best positioned to efficiently and effectively address issues related to SECC governance and best practices. Accordingly, the Commission will coordinate with FEMA to ensure that SECC administration and governance are addressed within the scope of the IPAWS Subcommittee, which transmits its recommendations to FEMA's National Advisory Council for review. The Commission believes that working through these existing mechanisms will be the most efficient way to generate recommendations that the Commission may evaluate in formulating its own guidance to improve communication among the Commission, SECCs, FEMA, NWS, and other EAS stakeholders.

52. Although a few commenters suggest amending part 11 to regulate SECCs, the Commission declines to adopt any rules regulating SECCs. Rather, by way of guidance, the Commission provides the SECCs with an online filing template for State EAS Plans and specify the required contents of those plans.

53. Compliance Timeframes. To conform to section 18.17 of the rules of the Administrative Committee of the Federal Register, 1 CFR 18.17, the above Dates field and this summary, at paragraphs 54-55 and 72-73 below, describe the compliance timeframes for the new and revised rules. In the Notice of Proposed Rulemaking, the Commission proposed requiring compliance with the amended rules on information collection requirements (i.e., the State EAS Plan rules) within six months from the release of a Public Notice announcing Office of Management and Budget (OMB) approval of related information collection requirements or within 60 days of a Public Notice announcing the availability of the Commission's relevant database to receive such information, whichever is later. The Commission also noted that its proposed EAS designation rules did not constitute a collection and required no action by EAS Participants and accordingly proposed that those rules would become effective 30 days from the date of their publication in the Federal Register.

54. State EAS Plans. The Commission requires compliance with its rules regarding State EAS Plan content and electronic submission within one year of publication in the Federal Register of a Public Notice announcing: (i) OMB approval of ARS information collection requirements or (ii) the availability of the ARS to receive such information, whichever is later. The Commission acknowledges commenters' concerns that the proposed 6-month deadline imposed a significant burden on SECCs' and LECCs' limited resources. Accordingly, the Commission extends its proposed 6-month compliance timeframe to a one-year compliance timeframe. The Commission believes the one-year compliance timeframe that is supported by the majority of commenters will afford SECCs sufficient time to implement its State EAS Plan requirements effectively and conduct any necessary outreach, training, and planning. The Commission further requires that State EAS Plans will continue to be updated on a yearly basis, but note that SECCs may satisfy this requirement by simply indicating on the form each year that the plan is up-to-date.

55. EAS Designations. The Commission agrees with Timm that the new designations should become effective at the same time as the State EAS Plan rule changes because designation changes likely would need to be reflected in most state plans. SECCs may need to engage with key EAS sources in their states to apply its designations. The Commission concludes that aligning the implementation timeframes of the state plan and designation changes will promote efficiency and avoid burdening SECCs with the need to draft multiple versions of their State EAS Plans to comply with the new requirements.

56. Legal Authority. The Communications Act gives the President authority to broadcast alerts during times of national emergency and prohibits broadcasters from issuing false alerts. Congress has also directed that cable systems afford their viewers the same opportunities to receive emergency alerts “as is afforded by” broadcasters “pursuant to Commission regulations.” The Act further requires the Commission to “investigate and study” how to “obtain[] maximum effectiveness from the use of radio and wire communications in connection with safety of life and property.” The Act empowers us to “make such rules and regulations” as necessary to carry out all of these statutory requirements. Together, these provisions have allowed the Commission to oversee the EAS. Although the Commission only requires use of EAS for Presidential Alerts, state and local authorities may use EAS to disseminate information to the public regarding more localized emergencies.

57. In the document, the Commission sought comment on its sources of legal authority over the EAS, including those provisions that the Commission highlights above, and noted that its proposals are “primarily intended to prepare the nation's alerting infrastructure for successful transmission of a Presidential Alert.” To enable the President to reliably execute this authority in the public interest, the Commission has long considered it necessary to ensure that the national alerting architecture is ready to transmit a Presidential Alert in an appropriate situation. The rules the Commission adopts here provide more consistent and reliable access to state plans so that the Commission and EAS participants will be better prepared to ensure the successful transmission of a Presidential Alert. No commenters opposed the Commission's authority to adopt any of the proposals contained in the document.

58. The Commission notes that the overall goal of the EAS system is to serve as an effective integral part of a “comprehensive system to alert and warn the American people.” Today's actions contribute to that goal by “adopt[ing] rules to ensure that communications systems have the capacity to transmit alerts and warnings to the public as part of the public alert and warning system.”

59. Cost-Benefit Analysis. In this section, the Commission finds that its rules generally reduce recurring burdens on SECCs. The Commission estimates that they impose a one-time collective transitional cost on all SECCs totaling approximately $236,000. The Commission shows that its rules present sufficient benefits to justify these costs.

60. Costs. The cost estimates the Commission discusses below are associated with the decisions adopted in this Report and Order, as opposed to the more expansive proposals in the document. The Commission estimates the reasonable one-time cost burden these rules could present to EAS Participants is approximately $236,000. Specifically, SECCs collectively will incur one-time approximate costs of a $235,000 recordkeeping cost for producing State EAS Plans consistent with its updated State EAS Plan requirements and EAS designations and a $1,000 reporting cost for electronically filing those plans. The Commission notes that this is a significantly smaller estimated total burden than that described in the document, which estimated a one-time $5.3 million and an annual cost of $596,560. The Commission also notes that the Commission sought comment on the specific costs of compliance with the proposed rules, but received no dollar figure estimates in response. Accordingly, the following estimate leverages publicly available data on the financial burdens associated with its requirements.

61. The Commission concludes that producing State EAS Plans consistent with its rules will result in approximately $235,000 as a one-time recordkeeping cost. In the document, the Commission estimated that implementing these changes would result in a one-time cost of approximately $25,000 and that it would take each SECC approximately 20 hours to comply with the new State EAS Plan requirements. Commenters observe that this cost assessment, as well as the Commission's assessment of the total hourly burden required to update State EAS Plans, was too low. In response to these concerns, the Commission is not requiring SECCs to include certain proposed elements in State EAS Plans, which the Commission concludes will reduce the amount of time required to revise their plans. Notwithstanding this revision, the Commission uses a quantification of commenters' assessment of the time that it would take SECCs to write their plans from scratch (100 hours) as a reasonable ceiling for the time needed to update those plans consistent with its rules. Based on submissions of State EAS Plans to date, the Commission expects that 54 entities will file such plans. The record shows that the individuals most likely to update those plans are broadcast engineers. Crowdsourced employee compensation data indicates that the median hourly compensation for a broadcast engineer is approximately $29. According to the Bureau of Labor Statistics, employee overhead benefits (including paid leave, supplementary pay, insurance, retirement and savings, and legally required benefits) add 50 percent to an employer's cost of labor. Thus, the Commission quantifies the value of an hour spent updating a State EAS Plan as approximately $43.50. The Commission concludes that the reasonable estimated cost of updating a single State EAS Plan consistent with this Report and Order would be approximately $4,350 and the estimated total cost of compliance with its State EAS Plan rules would be approximately $235,000.

62. Additionally, the Commission anticipates that SECC representatives also will incur a one-time estimated $1,000 reporting cost to file their revised State EAS Plans in the ARS. The Commission concludes that the time burden of filing State EAS Plans in the ARS will be one hour, the same burden that OMB approved for filing data in ETRS. Both filing systems present filers with the same user interface, and while State EAS Plans may include more data points than ETRS filings, entering state plan data in the ARS will be simpler because SECCs already have the relevant information on-hand from the process of creating a State EAS Plan. The Commission values the cost of an SECC representative's time spent on this task as approximately $19, the median hourly salary of a clerical employee plus benefits. Thus, filing state plan data in the ARS will cost approximately $1,000.

63. Therefore, based on the foregoing analysis, the Commission finds it reasonable to conclude that the benefits of the rules the Commission adopts today will exceed the costs of their implementation. The Commission's rule changes will improve alerting organization, support greater testing and awareness of the EAS, and promote the security of the EAS. The Commission believes these benefits easily outweigh the one-time $236,000 total compliance cost. The Commission also find that these rules likely will continue to accrue value to the public while reducing recurring costs.

64. Benefits. The rules the Commission adopts today will improve the nation's alert and warning capability by modernizing alerting recordkeeping and reducing recurring filing burdens on SECCs. For over two decades, the EAS has proven to be an effective method of alerting the public and saving lives and property. It continues to stand ready to serve its primary purpose of allowing the President to contact the public across the nation quickly and reliably, while at the same time providing the vital service of alerting the public about weather and other emergencies. A majority of the public continues to rely on the EAS to receive emergency information.

65. However, there remain weaknesses in conveying this critical information to the public via the EAS. Recent nationwide testing of the EAS has shown “shortfalls in some state EAS plans,” including confusion and difficulties in understanding and implementing monitoring assignments. The current paper-based State EAS Plan filing system, EAS designations, and State EAS Plan contents collectively make it difficult for the Commission and other EAS stakeholders to detect problems or map the propagation of EAS alerts. This inability to detect and resolve problems, in turn, makes it more likely that some members of the public may not receive emergency alerts. The Commission's new requirements address this difficulty by creating a uniform online filing system that will utilize specific State EAS Plan contents and uniform EAS designations. These improvements will allow the Commission, FEMA, and localities to more easily review and identify gaps in the EAS architectures, detect problems, and take measures to address these shortcomings. In doing so, and by helping to facilitate measures to improve the reach of EAS messages, the Commission improves the likelihood that a greater segment of the public will receive emergency alerts on a timely basis and take emergency preparedness measures, thereby providing benefits that include potentially reducing the incidence of injuries and preserving property.

66. The improvements to the EAS that the Commission adopts today will contribute to its ability to prevent injuries. The Commission notes that in 2016, there were 1,276 injuries resulting from weather events in the United States. If the improvements to the EAS the Commission adopts today prevent just 15 injuries, they will produce a public value of at least $400,000. This analysis illustrates that injury prevention alone, which will continue in years to come, is likely to produce benefits that outweigh those one-time costs.

67. Additionally, the Commission anticipates that, after the initial one-time cost of compliance with its rules, EAS Participants, SECCs, and state emergency alerting authorities will realize long-term cost savings. In the Second Report and Order, the Commission required “state and local entities to annually confirm their plans.” Prior to the current Report and Order, when an SECC updated its plan, it would refile its entire plan. The ARS will reduce this filing burden by allowing filers to instantaneously update elements of their plans, by saving previously entered data, and by obviating the need to re-file an entire plan every time a change is made. Converting the State EAS Plan filing system to an online filing system will streamline the state plan approval process and reduce the recurring costs of revising, updating, and resubmitting state plans (e.g., printing and mailing costs).

III. Procedural Matters

68. Regulatory Flexibility Analysis. As required by the Regulatory Flexibility Act of 1980, the Commission has prepared a Final Regulatory Flexibility Analysis (FRFA) of the significant economic impact on small entities of the policies and rules adopted in this document. The FRFA is set forth in Appendix B of the Report and Order.

69. Paperwork Reduction Analysis. The Report and Order contains modified information collection requirements subject to the Paperwork Reduction Act of 1995 (PRA), Public Law 104-13. It will be submitted to the OMB for review under section 3507(d) of the PRA. OMB, the general public, and other federal agencies will be invited to comment on the new information collection requirements contained in this proceeding. The Commission notes that pursuant to the Small Business Paperwork Relief Act of 2002, Public Law 107-198, the Commission previously sought specific comment on how the Commission might “further reduce the information collection burden for small business concerns with fewer than 25 employees.” In addition, the Commission has described impacts that might affect small businesses, which includes most businesses with fewer than 25 employees, in the FRFA in Appendix B of the Report and Order.

70. Congressional Review Act. The Commission will send a copy of this Report & Order in a report to be sent to Congress and the Government Accountability Office pursuant to the Congressional Review Act, see 5 U.S.C. 801(a)(1)(A).

IV. Ordering Clauses

71. Accordingly, it is ordered, pursuant to sections 1, 2, 4(i), 4(o), 301, 303(r), 303(v), 307, 309, 335, 403, 624(g), 706, and 713of the Communications Act of 1934, as amended, 47 U.S.C. 151, 152, 154(i), 154(o), 301, 303(r), 303(v), 307, 309, 335, 403, 544(g), 606, and 613, as well as the Twenty-First Century Communications and Video Accessibility Act of 2010, Pub. L. 111-260 and Pub. L. 111-265, that the Report and Order in PS Docket No. 15-94 is hereby adopted.

72. It is further ordered that the Commission's rules are hereby amended as set forth in Appendix A of the Report and Order.

73. It is further ordered that the rules adopted herein will become effective on the dates set forth in paragraphs 54-55 above.

74. It is further ordered that the Commission's Consumer and Governmental Affairs Bureau, Reference Information Center, SHALL SEND a copy of this Report and Order, including the Final Regulatory Flexibility Analysis, to the Chief Counsel for Advocacy of the Small Business Administration.

This part contains rules and regulations providing for an Emergency Alert System (EAS). The EAS provides the President with the capability to provide immediate communications and information to the general public at the National, State and Local Area levels during periods of national emergency. The rules in this part describe the required technical standards and operational procedures of the EAS for analog AM, FM, and TV broadcast stations, digital broadcast stations, analog cable systems, digital cable systems, wireline video systems, wireless cable systems, Direct Broadcast Satellite (DBS) services, Satellite Digital Audio Radio Service (SDARS), and other participating entities. The EAS may be used to provide the heads of State and local government, or their designated representatives, with a means of emergency communication with the public in their State or Local Area. [72 FR 62132, Nov. 2, 2007]

List of Subjects in 47 CFR Part 11

Radio, Television.

Federal Communications Commission.
Marlene Dortch,
Secretary.

Final Rules

For the reasons discussed in the preamble, the Federal Communications Commission amends 47 CFR part 11 as follows:

PART 11—EMERGENCY ALERT SYSTEM (EAS)

1. The authority citation for part 11 continues to read as follows:

Authority: . 47 U.S.C. 151, 154(i) and (o), 303(r), 544(g) and 606.

§ 11.2 [Amended]

2. Amend § 11.2 by removing paragraphs (b), (c), (f), (g) and (h), and redesignating paragraphs (d), (e), and (i) as paragraphs (b), (c), and (d) respectively.

3. Revise § 11.18 to read as follows:

§ 11.18 EAS Designations.

(a) A Primary Entry Point (PEP) is a private or commercial radio broadcast station that cooperatively participates with FEMA to provide EAS alerts to the public. PEPs are the primary source of initial broadcast for a Presidential Alert. A PEP is equipped with back-up communications equipment and power generators designed to enable it to continue broadcasting information to the public during and after disasters of national significance. The Primary Entry Point System is a nationwide network of such broadcast stations used to distribute EAS alerts formatted in the EAS Protocol. FEMA is responsible for designating broadcast stations as PEPs.

(b) A National Primary (NP) is an entity tasked with the primary responsibility of receiving the Presidential Alert from a PEP and delivering it to an individual state or portion of a state. In states without a PEP, the NP is responsible for receiving the Presidential Alert from an out-of-state PEP and transmitting it to the public and other EAS Participants in the state. Multiple entities may be charged with primary responsibility for delivering the Presidential Alert.

(c) A State Primary (SP) is an entity tasked with initiating the delivery of EAS alerts other than the Presidential Alert.

(d) A State Relay (SR) is an entity not otherwise designated that is charged with retransmitting EAS alerts for the purpose of being monitored by a Local Primary or Participating National.

(e) State Relay Network (SRN) is a network composed of State Relay (SR) sources, leased common carrier communications facilities or any other available communication facilities. The network distributes State EAS messages originated by the Governor or designated official. In addition to EAS monitoring, satellites, microwave, FM subcarrier or any other communications technology may be used to distribute State emergency messages.

(f) A Local Primary (LP) is an entity that serves as a monitoring assignment for other EAS Participants within the state. LP sources may be assigned numbers (e.g., LP-1, 2, 3) are relied on as monitoring sources by other EAS Participants in the Local Area. An LP may monitor any other station, including another LP, so long as doing so avoids creating a single point of failure in the alert distribution hierarchy.

(g) A Participating National (PN) is an EAS Participant that transmits national, state, or Local Area EAS messages, and is not otherwise designated within the State EAS Plan.

§ 11.20 [Removed]

4. Remove § 11.20.

5. Amend § 11.21 by revising paragraphs (a) and (c) to read as follows:

§ 11.21 State and Local Area Plans and FCC Mapbook.

* * * * *

(a) State EAS Plans contain guidelines that must be followed by EAS Participants' personnel, emergency officials, and National Weather Service (NWS) personnel to activate the EAS. The Plans include information on actions taken by EAS Participants, in coordination with state and local governments, to ensure timely access to EAS alert content by non-English speaking populations. State EAS Plans must be updated on an annual basis. The plans must be reviewed and approved by the Chief, Public Safety and Homeland Security Bureau, prior to implementation to ensure that they are consistent with national plans, FCC regulations, and EAS operation. State EAS Plans must include the following elements:

(1) A list of the EAS header codes and messages that will be transmitted by key EAS sources (NP, LP, SP, and SR);

(2) Procedures for state emergency management officials, the National Weather Service, and EAS Participant personnel to transmit emergency information to the public during an emergency via the EAS, including the extent to which the state's dissemination strategy for state and local emergency alerts differs from its Presidential Alerting strategy;

(3) Procedures for state and local activations of the EAS, including a list of all authorized entities participating in the State or Local Area EAS;

(4) A monitoring assignment matrix, in computer readable form, clearly showing monitoring assignments and the specific primary and backup path for emergency action notification (EAN)/Presidential Alert messages from the PEP to all key EAS sources (using the uniform designations specified in § 11.18) and to each station in the plan, organized by operational areas within the state. If a state's emergency alert system is capable of initiating EAS messages formatted in the Common Alerting Protocol (CAP), its EAS State Plan must include specific and detailed information describing how such messages will be aggregated and distributed to EAS Participants within the state, including the monitoring requirements associated with distributing such messages;

(5) State procedures for conducting special EAS tests and Required Monthly Tests (RMTs);

(6) A list of satellite-based communications resources that are used as alternate monitoring assignments and present a reliable source of EAS messages; and

(7) The SECC governance structure utilized by the state in order to organize state and local resources to ensure the efficient and effective delivery of a Presidential Alert, including the duties of the SECC, the membership selection process utilized by the SECC, and the administrative structure of the SECC.

* * * * *

(c) The FCC Mapbook is based on the consolidation of the monitoring assignment matrices required in each State EAS Plan with the identifying data contained in the ETRS. The Mapbook organizes all EAS Participants according to their State, EAS Local Area, and EAS designation. EAS Participant monitoring assignments and EAS operations must be implemented in a manner consistent with guidelines established in a State EAS Plan submitted to the Commission in order for the Mapbook to accurately reflect actual alert distribution.

* * * * *

§ 11.52 [Amended]

6. Amend § 11.52 by removing paragraph (d)(3), and redesignating paragraphs (d)(4) and (5) as paragraphs (d)(3) and (4), respectively.

7. Amend § 11.55 by revising paragraphs (b), (c) introductory text, and (c)(1) through (3) to read as follows:

§ 11.55 EAS operation during a State or Local Area emergency.

* * * * *

(b) EAS operations must be conducted as specified in State and Local Area EAS Plans.

(c) Immediately upon receipt of a State or Local Area EAS message that has been formatted in the EAS Protocol or the Common Alerting Protocol, EAS Participants participating in the State or Local Area EAS must do the following:

(1) State Relays (SR) monitor or deliver EAS alerts as required by the State EAS Plan.

(2) Local Primary (LP) entities monitor SPs, SRs, or other sources as set forth in the State EAS Plan.

(3) Participating National (PN) sources monitor LPs or other sources as set forth in the State EAS Plan.

* * * * *

[FR Doc. 2018-15818 Filed 8-1-18; 8:45 am]

BILLING CODE 6712-01-P